NUCLEAR REGULATORY COMMISSION

[Docket No. 50-423-OLA; ASLBP No. 08-862-01-OLA-BD01]

Dominion Nuclear Connecticut Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding: Dominion Nuclear Connecticut, Inc. (Millstone Power Station, Unit No. 3).

This proceeding concerns a Petition to Intervene and Request for Hearing submitted by the Connecticut Coalition Against Millstone and Nancy Burton in response to a January 15, 2008 Notice of Consideration of Issuance of Amendments to Facility Operating Licenses, Proposed No Significant Hazards Consideration Determination, and Opportunity for a Hearing (73 FR 2546, 2549). The Petition to Intervene and Request for Hearing challenges the request of Dominion Nuclear Connecticut, Inc. to amend the operating license for Millstone Power Station, Unit No. 3 to authorize a stretch power uprate (SPU). The requested SPU would increase the unit's authorized core power level from 3,411 megawatts thermal (MWt) to 3,650 MWt.

The Board is comprised of the following administrative judges: William J. Froehlich, Chair, Atomic Safety and Licensing Board Panel, U.S. Nuclear Regulatory Commission, Washington, DC 20555-0001; Dr. Paul B. Abramson, Atomic Safety and Licensing Board Panel, U.S. Nuclear Regulatory Commission, Washington, DC 20555-0001; Dr. Michael F. Kennedy, Atomic Safety and Licensing Board Panel, U.S. Nuclear Regulatory Commission, Washington, DC 20555-0001.

All correspondence, documents, and other materials shall be filed in accordance with the NRC E-Filing rule, which the NRC promulgated in August 2007 (72 FR 49,139). See also 73 FR 2547-2548.

Issued at Rockville, Maryland, this 27th day of March 2008.
E. Roy Hawkens,
Chief Administrative Judge, Atomic Safety and Licensing Board Panel.

[FR Doc. E8-6789 Filed 4-1-08; 8:45 am]

BILLING CODE 7590-01-P